DEPARTMENT OF ENERGY

Federal Energy Regulatory Commission

[Docket No. CP05-362-000]

Transcontinental Gas Pipe Line Corporation; Notice of Application for Abandonment

June 16, 2005.

Take notice that on May 27, 2005, Transcontinental Gas Pipe Line Corporation (Transco) tendered for filing an application under Section 7 of the Natural Gas Act to abandon the firm transportation service provided to Eastern Shore Natural Gas Company (Eastern Shore) under Transco's Rate Schedule FT.

Transco states that it currently renders for Eastern Shore, under a service agreement dated February 1, 1992, firm transportation service under Transco' s Rate Schedule FT. Transco explains that service agreement sets forth the terms and conditions under which Transco provides firm transportation of 2,815 Dt of gas per day for Eastern Shore. Although the firm transportation service is being rendered by Transco pursuant to Transco's blanket certificate authorization under Part 284(G) of the Commission's regulations, Transco states that it requires specific Section 7(b) abandonment authorization (instead of simply abandoning the service automatically under Section 284.221(d) of the regulations) because: (1) The subject FT service for Eastern Shore was previously converted from firm sales service to firm transportation service under Transco's Rate Schedule FT pursuant to Transco's revised Stipulation and Agreement in Docket Nos. RP88-68, et al.; and (2) the settlement provides that pre-granted abandonment shall not apply to such conversions (as further described in Article IV of the Service Agreement). As is more fully explained in the application, Transco proposes to abandon the 2,815 Dt/day of firm transportation service to Eastern Shore to allow Eastern Shore to effectuate a prearranged permanent release of that capacity.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Magalie R. Salas,
Secretary.

[FR Doc. E5-3245 Filed 6-21-05; 8:45 am]

BILLING CODE 6717-01-P